NATIONAL TRANSPORTATION SAFETY BOARD

Sunshine Act Meeting

TIME AND DATE: 9:30 a.m., Tuesday, June 5, 2012.

PLACE: NTSB Conference Center, 429 L'Enfant Plaza East SW., Washington, DC 20594.

STATUS: The two items are open to the public.

Matters To Be Considered

8308A—Highway Accident Report: Motorcoach Run-Off-the-Road and Collision with Vertical Highway Signpost, Interstate 95 Southbound, New York City, New York, March 12, 2011.

8416—Aircraft Incident Report: Runway Overrun, American Airlines Flight 2253, Jackson Hole, Wyoming, Dec. 29, 2010.

NEWS MEDIA CONTACT: Telephone: (202) 314-6100.

The press and public may enter the NTSB Conference Center one hour prior to the meeting for set up and seating.

Individuals requesting specific accommodations should contact Rochelle Hall at (202) 314-6305 by Friday, June 1, 2012.

The public may view the meeting via a live or archived Webcast by accessing a link under “News & Events” on the NTSB home page at www.ntsb.gov.

Schedule updates including weather-related cancellations are also available at www.ntsb.gov.

FOR MORE INFORMATION CONTACT: Candi Bing, (202) 314-6403 or by email at bingc@ntsb.gov.

Dated: Friday, May 18, 2012.
Candi R. Bing,
Federal Register Liaison Officer.

[FR Doc. 2012-12521 Filed 5-18-12; 4:15 pm]

BILLING CODE 7533-01-P